DEPARTMENT OF THE INTERIOR

Minerals Management Service

Gulf of Mexico, Outer Continental Shelf, Central Planning Area, Oil and Gas Lease Sale 194 (2005) Environmental Assessment

AGENCY: Minerals Management Service.

ACTION: Notice of availability of an environmental assessment.

SUMMARY: The Minerals Management Service (MMS) has prepared an environmental assessment (EA) for proposed Gulf of Mexico Outer Continental Shelf (OCS) Central Planning Area (CPA) Lease Sale 194. In this EA, MMS reexamined the potential environmental effects of the proposed action and its alternatives based on any new information regarding potential impacts and issues that were not available at the time the Gulf of Mexico OCS Oil and Gas Lease Sales: 2003-2007; Central Planning Area Sales 185, 190, 194, 198, and 201; Western Planning Area Sales 187, 192, 196, and 200; Final Environmental Impact Statement; Volumes I and II (Multisale EIS) was completed in November 2002.

FOR FURTHER INFORMATION CONTACT: Minerals Management Service, Gulf of Mexico OCS Region, 1201 Elmwood Park Boulevard, New Orleans, Louisiana 70123-2394, Mr. Dennis Chew, telephone (504) 736-2793.

SUPPLEMENTARY INFORMATION: The Multisale EIS analyzed the effects of a typical lease sale by presenting a set of ranges for resource estimates, project exploration and development activities, and impact-producing factors for any of the proposed CPA lease sales. The level of activities projected for proposed Lease Sale 194 falls within these ranges. No new significant impacts were identified for proposed Lease Sale 194 that were not already assessed in the Multisale EIS. Proposed CPA Lease Sale 194 is the third CPA lease sale scheduled in the Outer Continental Shelf Oil and Gas Leasing Program: 2002-2007. As a result, MMS determined that a supplemental EIS is not required and prepared a Finding of No New Significant Impact (FONNSI).

Public Comments: Interested parties may submit written comments on this EA/FONNSI within 30 days of this Notice's publication to the Regional Supervisor, Leasing and Environment (MS 5410), Gulf of Mexico OCS Region, Minerals Management Service, 1201 Elmwood Park Boulevard, New Orleans, Louisiana 70123-2394. Comments should be enclosed in an envelope labeled “Comments on CPA Lease Sale 194 EA/FONNSI.” You may also send comments to the MMS e-mail address: environment@mms.gov. All comments received will be considered in the decisionmaking process for CPA Lease Sale 194.

EA Availability: To obtain a copy of the EA, you may contact the Minerals Management Service, Gulf of Mexico OCS Region, Attention: Public Information Office (MS 5034), 1201 Elmwood Park Boulevard, Room 114, New Orleans, Louisiana 70123-2394 (1-800-200-GULF). You may also view the EA on the MMS Web site at http://www.gomr.mms.gov.

Dated: September 13, 2004.
Chris C. Oynes,
Regional Director, Gulf of Mexico OCS Region.

[FR Doc. 04-24761 Filed 11-4-04; 8:45 am]

BILLING CODE 4310-MR-P